DEPARTMENT OF ENERGY

Federal Energy Regulatory Commission

Combined Notice of Filings

Take notice that the Commission has received the following Natural Gas Pipeline Rate and Refund Report filings:

Docket Numbers: CP21-475-000.

Applicants: NEXUS Gas Transmission, LLC, and Texas Eastern Transmission, LP.

Description: Joint Abbreviated Application of NEXUS Gas Transmission, LLC, and Texas Eastern Transmission, LP, for Amendment to Certificate of Public Convenience and Necessity and Authorization to Abandon by Lease.

Filed Date: 7/20/21.

Accession Number: 20210720-5093.

Comments Due: 5 p.m. ET 8/3/21.

Docket Numbers: RP20-1097-002.

Applicants: Dominion Energy Questar Pipeline, LLC.

Description: Compliance filing Request for Rejection of Filed Tariff Records.

Filed Date: 7/22/21.

Accession Number: 20210722-5089.

Comments Due: 5 p.m. ET 8/3/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2021.
Debbie-Anne A. Reese,
Deputy Secretary.

[FR Doc. 2021-16268 Filed 7-29-21; 8:45 am]

BILLING CODE 6717-01-P